DEPARTMENT OF ENERGY

Federal Energy Regulatory Commission

Combined Notice of Filings #1

March 17, 2010.

Take notice that the Commission received the following electric rate filings:

Docket Numbers: ER99-2416-000.

Applicants: El Paso Electric Company.

Description: El Paso Electric Company submits its absence of market-based rate authority outside its balancing authority area and outside of the southern New Mexico area.

Filed Date: 03/08/2010.

Accession Number: 20100315-0082.

Comment Date: 5 p.m. Eastern Time on Monday, March 29, 2010.

Docket Numbers: ER00-3562-014; ER02-1367-009; ER06-753-007.

Applicants: Calpine Energy Services, L.P.; Calpine Oneta Power, LP; CPN Pryor Funding Corporation.

Description: Updated market power analysis of Calpine Corporation.

Filed Date: 03/16/2010.

Accession Number: 20100317-0209.

Comment Date: 5 p.m. Eastern Time on Monday, May 17, 2010.

Docket Numbers: ER01-1527-000; ER01-1529-000.

Applicants: Sierra Pacific Power Company; Nevada Power Company.

Description: NV Energy submits updated market power study for the Southwest region.

Filed Date: 03/08/2010.

Accession Number: 20100315-0086.

Comment Date: 5 p.m. Eastern Time on Friday, May 07, 2010.

Docket Numbers: ER10-343-001.

Applicants: PJM Interconnection, L.L.C.

Description: PJM Interconnection, LLC submits a revised interconnection service agreement.

Filed Date: 03/15/2010.

Accession Number: 20100316-0209.

Comment Date: 5 p.m. Eastern Time on Monday, April 05, 2010.

Docket Numbers: ER10-508-001.

Applicants: Nevada Power Company.

Description: Nevada Power Company submits compliance filing revising Paragraphs 2 and 4 in Appendix C of its Interconnection Agreement with El Dorado Energy, LLC.

Filed Date: 03/15/2010.

Accession Number: 20100316-0210.

Comment Date: 5 p.m. Eastern Time on Monday, April 05, 2010.

Docket Numbers: ER10-735-001.

Applicants: S.J. Energy Partners, Inc.

Description: S.J. Energy Partners, Inc submits revised Petition for Acceptance of Initial Tariff, Waivers Authorization.

Filed Date: 03/15/2010.

Accession Number: 20100315-0154.

Comment Date: 5 p.m. Eastern Time on Monday, April 05, 2010.

Docket Numbers: ER10-716-001.

Applicants: Algonquin Power Windsor Locks LLC.

Description: Algonquin Power Windsor Locks LLC submits supplement to its application for Order accepting rates for filing and granting waivers and blanket approvals filed 2/5/2010.

Filed Date: 03/16/2010.

Accession Number: 20100317-0212.

Comment Date: 5 p.m. Eastern Time on Tuesday, April 06, 2010.

Docket Numbers: ER10-881-000.

Applicants: Reliable Power, LLC.

Description: Reliable Power, LLC submits application for authorization to make wholesale sales of energy, et al.

Filed Date: 03/16/2010.

Accession Number: 20100316-0211.

Comment Date: 5 p.m. Eastern Time on Tuesday, April 06, 2010.

Docket Numbers: ER10-893-000

Applicants: PJM Interconnection, L.L.C.

Description: PJM Interconnection, LLC submits revised tariff sheets of the PJM Open Access Transmission Tariff and Amended and Restated Operating Agreement.

Filed Date: 03/16/2010.

Accession Number: 20100317-0204.

Comment Date: 5 p.m. Eastern Time on Tuesday, April 06, 2010.

Docket Numbers: ER10-894-000.

Applicants: RRI Energy Solutions East, LLC.

Description: RRI Energy Solutions East, LLC submits its Notice of Cancellation of its market-based rate tariff designated as Rate Schedule FERC No 1 Second Revised Volume 1 etc.

Filed Date: 03/16/2010.

Accession Number: 20100317-0201.

Comment Date: 5 p.m. Eastern Time on Tuesday, April 06, 2010.

Docket Numbers: ER10-895-000.

Applicants: The Detroit Edison Company.

Description: The Detroit Edison Company submits a Notice of Cancellation respecting the Power Supply Agreement with the City of Detroit, Michigan dated 10/23/91 as amended FERC Electric Tariff, Original Volume 4 etc.

Filed Date: 03/16/2010.

Accession Number: 20100317-0202.

Comment Date: 5 p.m. Eastern Time on Tuesday, April 06, 2010.

Docket Numbers: ER10-896-000.

Applicants: Duke Energy Carolinas, LLC.

Description: Duke Energy Carolinas, LLC submits a Network Integration Transmission Service Agreements for Network Integration Transmission Service with Town of Highlands, NC.

Filed Date: 03/16/2010.

Accession Number: 20100317-0203.

Comment Date: 5 p.m. Eastern Time on Tuesday, April 06, 2010.

Docket Numbers: ER10-897-000.

Applicants: Southwest Power Pool, Inc.

Description: Southwest Power Pool, Inc submits revised pages to its Open Access Transmission Tariff intended to implement rate changes for Mid- Kansas, which is a transmission owner and pricing zone under the SPP Tariff.

Filed Date: 03/16/2010.

Accession Number: 20100317-0210.

Comment Date: 5 p.m. Eastern Time on Tuesday, April 06, 2010.

Take notice that the Commission received the following electric securities filings:

Docket Numbers: ES10-30-000.

Applicants: Southern Indiana Gas & Electric Company.

Description: Application of Southern Indiana Gas and Electric Company for Authority to Issue Short-Term Debt.

Filed Date: 03/17/2010.

Accession Number: 20100317-5024.

Comment Date: 5 p.m. Eastern Time on Wednesday, April 07, 2010.

Take notice that the Commission received the following electric reliability filings:

Docket Numbers: RR10-8-000.

Applicants: North American Electric Reliability Corp.

Description: Petition of the North American Electric Reliability Corporation for Approval of Amendments to Rules of Procedure Regarding Compliance and Certification Committee Program and for Approval of Amended CCC Charter.

Filed Date: 03/15/2010.

Accession Number: 20100315-5238.

Comment Date: 5 p.m. Eastern Time on Wednesday, April 14, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-6482 Filed 3-23-10; 8:45 am]

BILLING CODE 6717-01-P